DEPARTMENT OF HOMELAND SECURITY

Coast Guard

33 CFR Part 117

[Docket No. USCG-2014-0218]

Drawbridge Operation Regulation; Annisquam River and Blynman Canal, Gloucester, MA

AGENCY: Coast Guard, DHS.

ACTION: Notice of deviation from drawbridge regulation.

SUMMARY: The Coast Guard has issued a temporary deviation from the operating schedule that governs the Blynman (SR127) Bridge across the Annisquam River and Blynman Canal, mile 0.0, at Gloucester, Massachusetts. The deviation is necessary to facilitate emergency structural repairs at the bridge. This temporary deviation authorizes the bridge to require a two hour advance notice for bridge openings for six weeks to facilitate emergency repairs at the bridge.

DATES: This deviation is effective without actual notice from April 14, 2014 through May 2, 2014. For the purposes of enforcement, actual notice will be used from March 31, 2014, until April 14, 2014.

ADDRESSES: The docket for this deviation, USCG-2014-0218 is available at http://www.regulations.gov. Type the docket number in the “SEARCH” box and click “SEARCH”. Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Mr. John McDonald, Project Officer, First Coast Guard District, telephone (617) 223-8364, email john.w.mcdonald@uscg.mil. If you have questions on viewing the docket, call Cheryl Collins, Program Manager, Docket Operations, telephone 202-366-9826.

SUPPLEMENTARY INFORMATION: The Blynman (SR127) Bridge at mile 0.0, across Annisquam River and Blynman Canal at Gloucester, Massachusetts, has 8.2 feet of vertical clearance at mean high water and 16 feet of vertical clearance at mean low water. The existing drawbridge operation regulations are listed at 33 CFR 117.586.

The owner of the bridge, Massachusetts Department of Transportation (MDOT), requested a temporary deviation from the schedule to facilitate emergency structural repairs at the bridge. A recent structural inspection revealed structural deterioration of roadway deck stringers at the bridge. As a result of the deterioration emergency vehicles and school busses are prohibited due to weight limitations from passing over the bridge.

The structural repairs to the bridge deck will take approximately six weeks to complete. The bridge owner requested a two hour advance notice for bridge openings to allow the contractor sufficient time to secure the bridge and remove equipment from the bridge in order to provide bridge openings.

The waterway supports commercial and seasonal recreational vessels of various sizes.

Under this temporary deviation the Blynman (SR127) Bridge at mile 0.0, across the Annisquam River and Blynman Canal may require at least a two hour advance notice for bridge openings from March 31, 2014 through May 2, 2014. Requests for bridge openings may be made by calling the number (978) 283-0243, posted at the bridge.

There is an alternate route for vessel traffic to take around Cape Ann, at Gloucester, should mariners not desire to provide the requested two hour advance notice for bridge openings.

The Coast Guard will also inform the users of the waterways through our Local and Broadcast Notice to Mariners of the change in operating schedule for the bridge so that vessels can arrange their transits to minimize any impact caused by the temporary deviation.

In accordance with 33 CFR 117.35(e), the drawbridge must return to its regular operating schedule immediately at the end of the effective period of this temporary deviation. This deviation from the operating regulations is authorized under 33 CFR 117.35.

Dated: March 27, 2014.
C.J. Bisignano,
Supervisory Bridge Management Specialist, First Coast Guard District.

[FR Doc. 2014-08237 Filed 4-11-14; 8:45 am]

BILLING CODE 9110-04-P